SOCIAL SECURITY ADMINISTRATION

Privacy Act of 1974, as Amended; New System of Records and New Routine Use Disclosures

AGENCY: Social Security Administration.

ACTION: Proposed new system of records and proposed routine uses.

SUMMARY: In accordance with the Privacy Act (5 U.S.C. 552a(e)(4) and (e)(11)), we are issuing public notice of our intent to establish a new system of records entitled eWork System, 60-0330, and routine uses applicable to the system of records. We also are issuing notice that we may disclose personally identifiable information from the eWork System to consumer reporting agencies in accordance with 5 U.S.C. 552a(b)(12) and 31 U.S.C. 3711(e). We invite public comment on this proposal.

DATES: We filed a report of the proposed eWork System and the applicable routine uses with the Chairwoman of the Senate Committee on Governmental Affairs, the Chairman of the House Committee on Government Reform, and the Director, Office of Information and Regulatory Affairs, Office of Management and Budget (OMB) on September 9, 2003. The proposed eWork System and the proposed routine uses will become effective on October 18, 2003, unless we receive comments warranting them not to be effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Pamela J. McLaughlin, Strategic Issues Team, Office of Public Disclosure, Office of the General Counsel, Social Security Administration, Room 3-C-1 Operations Building, 6401 Security Boulevard, Baltimore, Maryland 21235-6401, e-mail address at pam.mclaughlin@ssa.gov, or by telephone at (410) 965-3677.

SUPPLEMENTARY INFORMATION:

I. Background and Purpose of the Proposed New eWork System of Records

A. General Background

Social Security Title II disability beneficiaries are allowed to work in a “trial work period.” Under certain other circumstances permitted by the Social Security Act, SSA can also make determinations concerning their ability to successfully return to the workforce. These individuals must undergo continuing disability reviews (CDRs) based on work activity. SSA is developing the eWork System as a means of controlling and processing “work” CDRs. This system will replace a manual, labor-intensive paper process. The eWork System will allow SSA personnel to process “work” CDRs more efficiently, timely, and accurately. In addition, the eWork System will collect information from Title XVI recipients making any report of earnings. Because SSA will maintain and retrieve information from the proposed eWork System using individuals' Social Security numbers (SSNs) and/or names, the proposed system will constitute a “system of records” under the Privacy Act.

The eWork System will allow SSA to automate programmatic and administrative tasks such as:

• Generating requests to employers and Title II disability applicants or beneficiaries to verify the applicants/beneficiaries' earnings and work activity;

• Recording and storing monthly earnings and other work activity information for employed and/or self-employed Title II disability applicants or beneficiaries, and for Title XVI recipients making any report of earnings;

• Producing feedback reports of an individual beneficiary's current entitlement/eligibility and work status based on information in other SSA databases, and producing receipts for all reports of earnings;

• Identifying complex and sensitive cases for handling by appropriate direct service personnel, such as technical experts;

• Automating requests for disability folders that may be located at different locations within SSA;

• Recording the completion of a work CDR decision for management information and workload reporting purposes;

• Obtaining relevant information from other SSA databases for use in work CDR's;

• Providing management information reports concerning “work” CDR's and earnings reports; and

• Providing information for statistical and evaluation purposes.

B. Collection and Maintenance of Data in the eWork System

The eWork System will include identifying information about Title II disability beneficiaries; information about their disability claims, work activity, and participation in the “Ticket-to-Work” Program (if applicable), Title XVI recipients and their reports of earnings; and administrative data. See the “Categories of records” section of the notice below for a full description of the data that will be maintained in the system.

II. Proposed Routine Use Disclosures of Data Maintained in the Proposed eWork System

A. Proposed Routine Use Disclosures

We are proposing to establish the following routine use disclosures of information that will be maintained in the proposed new eWork System:

1. To the Office of the President for the purpose of responding to an individual pursuant to an inquiry received from that individual or from a third party on his or her behalf.

We will disclose information under this routine use only in situations in which an individual may contact the Office of the President, seeking that Office's assistance in a matter relating to the eWork System. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to the eWork System. Information will be disclosed when the congressional representative makes an inquiry and indicates that he or she is acting on behalf of the individual whose record is requested.

3. To the Department of Justice (DOJ), a court or other tribunal, or another party before such tribunal when:

(a) SSA, or any component thereof, or

(b) any SSA employee in his/her official capacity; or

(c) any SSA employee in his/her individual capacity where DOJ (or SSA where it is authorized to do so) has agreed to represent the employee; or

(d) the United States or any agency thereof where SSA determines that the litigation is likely to affect the operations of SSA or any of its components

is party to litigation or has an interest in such litigation, and SSA determines that the use of such records by DOJ, a court or other tribunal, or another party before such tribunal is relevant and necessary to the litigation, provided, however, that in each case, SSA determines that such disclosure is compatible with the purpose for which the records were collected.

Disclosure of any information defined as “return or return information” under 26 U.S.C. 6103 of the Internal Revenue Code (IRC) will not be disclosed unless authorized by a statute, the Internal Revenue Service (IRS), or IRS regulations.

We will disclose information under this routine use only as necessary to enable DOJ to effectively defend SSA, its components or employees in litigation involving the proposed system of records or when the United States is a party to litigation and SSA has an interest in the litigation.

4. Disclosure to the Internal Revenue Service (IRS), Department of Treasury, for the purpose of auditing SSA's compliance with the safeguard provisions of the Internal Revenue Code (IRC) of 1986, as amended.

This proposed routine use would allow the IRS to audit SSA's maintenance of earnings and wage information in the eWork System to ensure that SSA complies with the safeguard requirements of the IRC.

5. To student volunteers and other workers, who technically do not have the status of Federal employees, when they are performing work for SSA as authorized by law, and they need access to personally identifiable information in SSA records in order to perform their assigned Agency functions.

Under certain Federal statutes, SSA is authorized to use the service of volunteers and participants in certain educational, training, employment and community service programs. Examples of such statutes and programs include: 5 U.S.C. 3711 regarding student volunteers and 42 U.S.C. 2753 regarding the College Work-Study Program. We contemplate disclosing information under this routine use only when SSA uses the services of these individuals, and they need access to information in this system to perform their assigned agency duties.

6. To contractors and other Federal agencies, as necessary, for the purpose of assisting SSA in the efficient administration of its programs. We contemplate disclosing information under this routine use only in situations in which SSA may enter into a contractual or similar agreement with a third party to assist in accomplishing an agency function relating to this system of records.

SSA occasionally contracts out certain of its functions when this would contribute to effective and efficient operations. SSA must be able to give a contractor whatever information the Agency can legally provide in order for the contractor to fulfill its duties. In these situations, safeguards are provided in the contract prohibiting the contractor from using or disclosing the information for any purpose other than that described in the contract.

7. To Federal, State and local law enforcement agencies and private security contractors as appropriate, information necessary:

• To enable them to protect the safety of SSA employees and customers, the security of the SSA workplace and the operation of SSA facilities, or

• To assist investigations or prosecutions with respect to activities that affect such safety and security or activities that disrupt the operation of SSA facilities.

We will disclose information under this routine use to law enforcement agencies and private security contractors when information is needed to respond to, investigate, or prevent activities that jeopardize the security and safety of SSA customers, employees or workplaces or that otherwise disrupt the operation of SSA facilities. Information would also be disclosed to assist in the prosecution of persons charged with violating Federal or local law in connection with such activities.

8. To Federal agencies, contractors or third parties for the performance of evaluations, statistical studies, research and demonstration projects directly relating to this system of records, including the Ticket-to-Work Program.

We will disclose information under this routine use to Federal agencies, contractors or third parties when information is needed to perform evaluations, statistical studies, and research and demonstration projects specific to this system of records and the Ticket-to-Work Program.

9. Non-tax return information which is not restricted from disclosure by Federal law to the General Services Administration (GSA) and the National Archives Records Administration (NARA) under 44 U.S.C. 2904 and 2906, as amended by NARA Act of 1984, for the use of those agencies in conducting records management studies.

The Administrator of GSA and the Archivist of NARA are charged by 44 U.S.C. 2904, as amended, with promulgating standards, procedures and guidelines regarding record management and conducting records management studies. 44 U.S.C. 2906, as amended, provides that GSA and NARA are to have access to federal agencies' records and that agencies are to cooperate with GSA and NARA. In carrying out these responsibilities, it may be necessary for GSA and NARA to have access to this proposed system of records. In such instances, the routine use will facilitate disclosure.

B. Compatibility of Proposed Routine Uses

The Privacy Act (5 U.S.C. 552a(b)(3)) and SSA's disclosure regulation (20 CFR part 401) permit us to disclose information under a published routine use for a purpose that is compatible with the purpose for which we collected the information. SSA's Regulations at 20 CFR 401.150(c) permit us to disclose information under a routine use where necessary to carry out SSA programs. SSA's Regulations at 20 CFR 401.120 provide that we will disclose information when a law specifically requires the disclosure. The proposed routine uses numbered 1 through 8 above will ensure efficient administration of SSA programs administered through the proposed eWork System; the disclosure that would be made under routine use number 9 is required by law. The proposed routine uses are appropriate and meet the relevant statutory and regulatory criteria.

III. Disclosure to Consumer Reporting Agencies

The Privacy Act of 1974, as amended (5 U.S.C. 552a(b)(12)) permits Federal agencies to disclose certain information to consumer reporting agencies in accordance with 31 U.S.C. 3711(e) without the consent of the individuals to whom the information pertains. The purpose of this disclosure is to provide an incentive for individuals to pay any outstanding debts they owe to the Federal government by including information about these debts in the records relating to those persons maintained by consumer reporting agencies. This is a practice commonly used by the private sector. The information disclosed will be limited to that which is needed to establish the identity of the individual debtor, the amount, status, and history of the debt, and the agency or program under which the debt arose.

We have added the following statement at the end of the routine uses section of the proposed system of records:

Disclosure pursuant to 5 U.S.C. 552a(b)(12) may be made to consumer reporting agencies as defined in the Fair Credit Reporting Act (15 U.S.C. 1681a(f)) or the Federal Claims Collection Act of 1966 (31 U.S.C. 3701, et seq.) as amended. The disclosure will be made in accordance with 31 U.S.C. 3711(e) when authorized by sections 204(f), 808(e), or 1631(b)(4) of the Social Security Act (42 U.S.C. 404(f), 1008(e), or 1383(b)(4)). The purpose of this disclosure is to aid in the collection of outstanding debts owed to the Federal government, typically, to provide an incentive for debtors to repay delinquent Federal government debts by making these debts part of their credit records. The information to be disclosed is limited to the individual's name, address, SSN, and other information necessary to establish the individual's identity, the amount, status, and history of the debt and the agency or program under which the debt arose.

IV. Records Storage Medium and Safeguards for the Proposed eWork System

The eWork System is an automated database. Only authorized SSA personnel who have a need for the information in the performance of their official duties will be permitted access to the information. We will safeguard the security of the information by requiring the use of access codes to enter the computer systems that will maintain the data and will store computerized records in secured areas that are accessible only to employees who require the information to perform their official duties. Any manually maintained records will be kept in locked cabinets or in otherwise secure areas. Furthermore, SSA employees having access to SSA databases maintaining personal information must sign a sanction document annually, acknowledging their accountability for making unauthorized access to or disclosure of such information.

Contractor personnel having access to data in the eWork System will be required to adhere to SSA rules concerning safeguards, access and use of the data.

SSA personnel having access to the data on this system will be informed of the criminal penalties of the Privacy Act for unauthorized access to or disclosure of information maintained in this system. See 5 U.S.C. 552a(i)(1).

V. Effect of the Proposed eWork System on the Rights of Individuals

The proposed new system of records will maintain only that information that is necessary for the efficient and effective control and processing of “work” CDRs and initial disability applications involving work activity, and Title XVI recipient reports of earnings. Security measures will be employed that protect access to and preclude unauthorized disclosure of records in the proposed system of records. Therefore, we do not anticipate that the proposed system of records will have an unwarranted adverse effect on the rights of individuals.

Dated: September 9, 2003.
Jo Anne B. Barnhart,
Commissioner.

60-0330

System name:

eWork System, Office of the Deputy Commissioner for Disability and Income Security Programs, Office of Employment Support Programs.

Security classification:

None.

System location:

Social Security Administration, Office of Systems, 6401 Security Boulevard, Baltimore, Maryland 21235.

In addition to the Headquarters location, SSA field locations; addresses may be obtained by writing to the system manager at the address below.

Categories of individuals covered by the system:

This system covers Social Security Title II disability beneficiaries who must undergo a continuing disability review (CDR) because of work activity, participate in the Ticket-to-Work Program, or make earnings or work reports; and Title XVI recipients making any report of work or earnings.

Categories of records in the system:

This system contains the following types of records: Identifying information such as a Social Security number (SSN), name and date of birth; claim information such as type of claim, date disability began, reason for reopening, continuance or cessation code, date of termination (if applicable); work activity and employment information; evidence of earnings; district office and state agency code; data related to the Ticket-to-Work Program such as Ticket eligibility, receipt, assignment and use, alleged and verified earnings, and suspension of continuing disability determinations.

Authority for maintenance of the system:

Sect. 222, 225, 1611, 1631 and 1633 of the Social Security Act (42 U.S.C. 422, 425, 1382, 1383 and 1383b); the Federal Records Act of 1950 (Pub. L. 81-754, 64 Stat. 583), as amended.

Purpose(s):

Information in this system will be used to:

• Generate requests to employers and Title II disability applicants or beneficiaries to verify the applicants/beneficiaries' earnings and work activity;

• Record and store monthly earnings and other work activity information, work and earnings reports, and evidence for Title II disability beneficiaries who are employed and/or self-employed, and for Title XVI recipients making any report of earnings;

• Produce reports of beneficiaries' current entitlement/eligibility and work status based on information from their families and representatives and information in other SSA databases;

• Produce receipts for all reports of earnings;

• Identify complex and sensitive cases for handling by appropriate direct service personnel, such as technical experts;

• Automate requests for disability folders that may be located at different locations within SSA;

• Obtain relevant information from other SSA databases for use in CDRs;

• Provide management information reports concerning “work” CDRs, work and earnings reports, and other related workloads; and

• Provide information for statistical studies, evaluations, research and demonstration projects relating to SSA's disability programs, and specifically, to the Ticket-to-Work Program.

Routine uses of records maintained in the system, including categories of users and the purposes of such uses:

Disclosures may be made for routine uses as indicated below. However, disclosure of any information defined as “return or return information” under 26 U.S.C. 6103 of the Internal Revenue Code (IRC) will not be disclosed unless authorized by a statute, the Internal Revenue Service (IRS), or IRS regulations.

1. To the Office of the President for the purpose of responding to an individual pursuant to an inquiry received from that individual or from a third party on his or her behalf.

2. To a congressional office in response to an inquiry from that office made at the request of the subject of a record.

3. To the Department of Justice (DOJ), a court or other tribunal, or another party before such tribunal when:

(a) SSA, or any component thereof, or

(b) any SSA employee in his/her official capacity; or

(c) any SSA employee in his/her individual capacity where DOJ (or SSA where it is authorized to do so) has agreed to represent the employee; or

(d) the United States or any agency thereof where SSA determines that the litigation is likely to affect the operations of SSA or any of its components

is party to litigation or has an interest in such litigation, and SSA determines that the use of such records by DOJ, a court or other tribunal, or another party before such tribunal is relevant and necessary to the litigation, provided, however, that in each case, SSA determines that such disclosure is compatible with the purpose for which the records were collected.

Disclosure of any information defined as “return or return information” under 26 U.S.C. 6103 of the Internal Revenue Code (IRC) will not be disclosed unless authorized by a statute, the Internal Revenue Service (IRS), or IRS regulations.

4. To the Internal Revenue Service (IRS), Department of the Treasury, for the purpose of auditing SSA's compliance with the safeguard provisions of the Internal Revenue Code (IRC) of 1986, as amended.

5. To student volunteers and other workers, who technically do not have the status of Federal employees, when they are performing work for SSA as authorized by law, and they need access to personally identifiable information in SSA records in order to perform their assigned Agency functions.

6. To contractors and other Federal agencies, as necessary, for the purpose of assisting SSA in the efficient administration of its programs. We contemplate disclosing information under this routine use only in situations in which SSA may enter into a contractual or similar agreement with a third party to assist in accomplishing an agency function relating to this system of records.

7. To Federal, State and local law enforcement agencies and private security contractors as appropriate, information is necessary:

• To enable them to protect the safety of SSA employees and customers, the security of the SSA workplace and the operation of SSA facilities, or

• To assist investigations or prosecutions with respect to activities that affect such safety and security or activities that disrupt the operation of SSA facilities.

8. To Federal agencies, contractors or third parties for the performance of evaluations, statistical studies, research and demonstration projects directly relating to this system of records, including the Ticket-to-Work Program.

9. Non-tax return information which is not restricted from disclosure by Federal law to the General Services Administration (GSA) and the National Archives Records Administration (NARA) under 44 U.S.C. § 2904 and § 2906, as amended by NARA Act of 1984, for the use of those agencies in conducting records management studies.

Disclosure to Consumer Reporting Agencies:

Disclosure pursuant to 5 U.S.C. 552a(b)(12) may be made to consumer reporting agencies as defined in the Fair Credit Reporting Act (15 U.S.C. 1681a(f)) or the Federal Claims Collection Act of 1966 (31 U.S.C. 3701, et seq.) as amended. The disclosure will be made in accordance with 31 U.S.C. 3711(e) when authorized by sections 204(f), 808(e), or 1631(b)(4) of the Social Security Act (42 U.S.C. 404(f), 1008(e), or 1383(b)(4)). The purpose of this disclosure is to aid in the collection of outstanding debts owed to the Federal government, typically, to provide an incentive for debtors to repay delinquent Federal government debts by making these debts part of their credit records. The information to be disclosed is limited to the individual's name, address, SSN, and other information necessary to establish the individual's identity, the amount, status, and history of the debt and the agency or program under which the debt arose.

Policies and practices for storing, retrieving, accessing, retaining and disposing of records in the system:

Storage:

Records in this system are maintained in both electronic and paper form (e.g., magnetic tape and disc and microfilm).

Retrievability:

Records in this system will be retrieved by the individual's SSN and/or name.

Safeguards:

Security measures include the use of access codes to enter the computer system which will maintain the data, the storage of computerized records in secured areas which are accessible only to employees who require the information in performing their official duties. SSA employees who have access to the data will be informed of the criminal penalties of the Privacy Act for unauthorized access to or disclosure of information maintained in the system. See 5 U.S.C. 552a(i)(1).

Contractor personnel having access to data in the system of records will be required to adhere to SSA rules concerning safeguards, access and use of the data.

Retention and disposal:

Records in this system are retained for one year when they pertain to documents provided by and returned to an individual, denial of requests for confidential information, release of confidential information to an authorized third party, and undeliverable material. Records are maintained for at least 7 years when they contain information and/or evidence pertaining to Social Security coverage, wage, and self-employment determinations or when they affect future claims development. Additional information collected may be retained for longer periods for purposes of analysis and process improvement, without regard to individual records.

The means of disposal of the information in this system will be appropriate to the storage medium (e.g., deletion of individual electronic records or shredding of paper records).

System manager(s) and addresses:

Office of the Deputy Commissioner for Disability and Income Security Programs, Associate Commissioner, Office of Employment Support Programs, Social Security Administration, 6401 Security Boulevard, Baltimore, Maryland 21235.

Notification procedures:

An individual can determine if this system contains a record about him/her by writing to the systems manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense (20 CFR 401.45).

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual (20 CFR 401.45).

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.45).

Record access procedures:

Same as Notification procedures. Requesters also should reasonable specify the record contents they are seeking. These procedures are in accordance with SSA Regulations (20 CFR 401.50).

Contesting record procedures:

Same as Notification procedures. Requesters also should reasonably identify the record, specify the information they are contesting, and state the corrective action sought and the reasons for the correction with supporting justification showing how the record is untimely, incomplete, inaccurate or irrelevant. These procedures are in accordance with SSA Regulations (20 CFR 401.65).

Record source categories:

Information in this system of records is obtained from information collected from individuals interviewed in person in the SSA FOs or over the telephone, contractors, third parties and from existing systems of records such as the Claims Folder System, 60-0089, Master Beneficiary Record, 60-0090, Master Files of Social Security Numbers (SSN) Holders and SSN Application, 60-0058, and the Supplemental Security Income Record and Special Veterans Benefits, 60-0103.

Systems exempted from certain provisions of the Privacy Act:

None.

[FR Doc. 03-23413 Filed 9-12-03; 8:45 am]

BILLING CODE 4191-02-P